DEPARTMENT OF THE INTERIOR

Bureau of Land Management

[CA-310-1820-AE]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Wednesday and Thursday, April 2 and 3, 2003, at Granzella's Inn, 391 Sixth St., Williams, Calif. On April 2, the meeting convenes at 10 a.m. for a field trip to public lands managed by the BLM Ukiah Field Office. Members of the public are welcome. They must provide their own transportation and lunch. On April 3, the meeting begins at 8 a.m. in the Conference Room at Granzella's. Time for public comments has been set aside for 1 p.m. on April 3.

FOR FURTHER INFORMATION CONTACT: Rich Burns, BLM Ukiah field manager, 2550 North State St., Ukiah, CA, (707) 468-4000; or BLM Public Affairs Officer Joseph J. Fontana, telephone (530) 252-5332.

SUPPLEMENTARY INFORMATION: The 12-member council advises the Secretary of the Interior, through the BLM, on a variety of planning and management issues associated with public land management in Northwest California. At this meeting, agenda topics will include council comments on proposed changes to BLM's grazing regulations, proposals for wind energy development, and discussion about the voting protocol established in the RAC charter. The council will also hear status reports from the managers of the BLM's Arcata, Ukiah and Redding field offices.

All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: February 13, 2003.
Joseph J. Fontana,
Public Affairs Officer.

[FR Doc. 03-4033 Filed 2-19-03; 8:45 am]

BILLING CODE 4310-40-P